DEPARTMENT OF THE TREASURY

Departmental Offices Proposed Collection; Comment Request

ACTION: Notice and request for comments.

SUMMARY: The Department of the Treasury, as part of its continuing effort to reduce paperwork burdens, invites the general public and other Federal agencies to comment on an information collection that is due for revision approval by the Office of Management and Budget. The Office of Program Services within the Department of the Treasury is soliciting comments concerning the Annual Report of Foreign-Residents' Holdings of U.S. Securities, including Selected Money Market Instruments. The next such report is to be conducted as of June 28, 2002.

DATES: Written comments should be received on or before January 8, 2002 to be assured of consideration.

ADDRESSES: Direct all written comments to Dwight Wolkow, Administrator, International Portfolio Investment Data Systems, Department of Treasury, Room 5457 MT, 1500 Pennsylvania Avenue NW., Washington DC 20220.

FOR FURTHER INFORMATION CONTACT: Requests for additional information or copies of the forms and instructions should be directed to Dwight Wolkow, Administrator, International Portfolio Investment Data Systems at the above address, or by emailing dwight.wolkow@do.treas.gov, or by faxing (202) 622-7448, or by calling (202) 622-1276. The forms and instructions can be viewed in section C of the webpage at: www.treas.gov/tic/forms.htm.

SUPPLEMENTARY INFORMATION: Title: Treasury Department Form SHLA/SHLB, Foreign-Residents' Holdings of U.S. Securities, including Selected Money Market Instruments.

OMB Number: 1505-0123.

Abstract: These forms are used to conduct annual surveys of holdings by foreign-residents of U.S. securities for portfolio investment purposes. These data are used by the U.S. Government in the formulation of international and financial policies and for the computation of the U.S. balance of payments accounts and the U.S.l international investment position. These data will also be used to provide information to the public and to meet international reporting commitments.

Current Actions: (a) Data will be collected on short-term securities, including selected money market instruments, as well as on long-term securities, (b) The frequency of reporting by the largest U.S.-resident custodians and U.S.-resident issuers of U.S. securities will increase to annual from once every five years. The objective is to gather information annually with a minimum increase in reporting burden and cost to the government. This will be done by: (1) Continuing the benchmark survey (Form SHLB) once every five years, which requires reporting by all significant U.S.-resident custodians and U.S.-resident security issuers; and (2) introducing in non-benchmark years an annual survey (Form SHLA), which will require reports from only the very largest U.S.-resident custodians and issuers. The data requested will be the same in both Form SHLB and Form SHLA. The determination of who must report on the annual reports (SHLA) will be based upon the securities data submitted during the previous benchmark survey. The data collected under the annual reports (SHLA) will be used in conjunction with the results of the previous benchmark survey to compute economy-wide estimates for the non-benchmark years.

Type of Review: Revision of a currently approved data collection.

Affected Public: Business/Financial Institutions.

Forms:

TDF SHLA, Schedule 1 and Schedule 2 (1505-0123);

TDF SHLB, Schedule 1 and Schedule 2 (1505-123)

Estimated Number of Respondents: an annual average (over five years) of 435, but this varies widely from about 2,000 in benchmark years (once every five years) to about 45 in all other years (four out of every five years).

Estimated Average Time per Respondents: an annual average (over five years) of about 68 hours, but this will vary widely from respondent to respondent. (a) In the year of a benchmark survey, which is conducted once every five years, it is estimated that exempt respondents will require an average of 16 hours; for custodians of securities, the estimate is a total of 176 hours on average, but this figure will vary widely for individual custodians; and for issuers of securities that have data to report and are not custodians, the estimate is 48 hours total. (b) In a non-benchmark year, which occurs four years out of every five years; for the largest custodians of securities, the estimate is a total of 472 hours on average; and for the largest issuers of securities that have data to report and are not custodians, the estimate is 136 hours total.

Estimate Total Annual Burden Hours: an annual average (over five years) of 29,600 hours .

Frequency of Response: Annual.

Request for Comments

Comments submitted in response to this notice will be summarized and/or included in the request for Office of Management and Budget approval. All comments will become a matter of public record. The public is invited to submit written comments concerning: (a) whether the Survey is necessary for the proper performance of the functions of the Office, including whether the information collected has practical uses; (b) the accuracy of the above burden estimates; (c) ways to enhance the quality, usefulness and clarity of the information to be collected; (d) ways to minimize the reporting and/or record keeping burdens on respondents, including the use of information technologies to automate the collection of the data; and (e) estimates of capital or start-up costs of operation, maintenance and purchases of services to provide information.

Dwight Wolkow,
Administrator, International Portfolio Investment Data Systems.

[FR Doc. 01-28116 Filed 11-8-01; 8:45 am]

BILLING CODE 4810-25-M